DEPARTMENT OF DEFENSE

Department of the Air Force

Notice of Federal Advisory Committee Meeting

AGENCY: Department of the Air Force, Board of Visitors of the U.S. Air Force Academy.

ACTION: Notice of Federal advisory committee meeting.

SUMMARY: The Department of Defense (DoD) is publishing this notice to announce that the following Federal Advisory Committee meeting of the Board of Visitors (BoV) of the U.S. Air Force Academy (USAFA) will take place.

DATES: Open to the public Wednesday April 13, 2022 from 8:00 a.m. to 5:00 p.m. (Mountain Time).

ADDRESSES: The meeting will occur at the United States Air Force Academy, Colorado Springs, CO as well as virtually. Members of the public will only be allowed to attend the meeting virtually. The link for the virtual meeting can be found at: https://www.usafa.edu/about/bov/ and will be active approximately thirty minutes before the start of the meeting.

FOR FURTHER INFORMATION CONTACT: Lieutenant Colonel Robert Schabron, Executive Secretary, robert.schabron@us.af.mil, (703) 614-4751, 1040 Air Force Pentagon, Washington, DC 20330-1040 or Mr. Anthony R. McDonald, Designated Federal Officer (DFO), anthony.mcdonald@us.af.mil, (703) 614-4751, 1660 Air Force Pentagon, Washington, DC 20330-1660. Website: https://www.usafa.edu/about/bov/. Site contains information on the Board of Visitors, the link to the virtual meeting, and meeting agenda.

SUPPLEMENTARY INFORMATION: This meeting is being held under the provisions of the Federal Advisory Committee Act (FACA) of 1972 (5 U.S.C., appendix, as amended), the Government in the Sunshine Act of 1976 (5 U.S.C. 552b, as amended), and 41 CFR 102-3.140 and 102-3.150.

Purpose of the Meeting: The purpose of the meeting is to review morale and discipline, social climate, athletics, diversity, curriculum and other matters relating to the U.S. Air Force Academy. The meeting will address topics across the Academy including updates from the Academy Superintendent, Commandant, Dean, and Athletics Department. Furthermore, there will be presentations on the Air Force Academy's Budget; Sexual Assault Prevention program; IT Infrastructure; Aviation Training Programs; and Specialty Selection Process.

Written Statements: Any member of the public wishing to provide input to the Board of Visitors of the U.S. Air Force Academy should submit a written statement in accordance with 41 CFR 102-3.105(j) and 102-3.140 and 10(a)(3) of the FACA. The public or interested organizations may submit written comments or statements to the BoV about its mission and/or the topics to be addressed in the open sessions of this public meeting. Written comments or statements should be submitted to the BoV Executive Secretary, Lt Col Robert Schabron, via electronic mail, at the email address listed in the FOR FURTHER INFORMATION CONTACT section in the following formats: Adobe Acrobat or Microsoft Word. The comment or statement must include the author's name, title affiliation, address, and daytime telephone number. Written comments or statements being submitted in response to the agenda set forth in this notice must be received by the BoV Executive Secretary at least five (5) business days (April 6, 2022) prior to the meeting so they may be made available to the BoV Chairman for consideration prior to the meeting. Written comments or statements received after this date (April 6, 202) may not be provided to the BoV until its next meeting. Please note that because the BoV operates under the provisions of the FACA, as amended, all written comments will be treated as public documents and will be made available for public inspection.

Adriane Paris,
Air Force Federal Register Liaison Officer.

[FR Doc. 2022-06568 Filed 3-28-22; 8:45 am]

BILLING CODE 5001-10-P